DEPARTMENT OF COMMERCE

National Oceanic and Atmospheric Administration

[RTID 0648-XE497]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day in-person meeting of its Shrimp Advisory Panel (AP).

DATES: The meeting will convene Monday, December 16, 2024, from 8 a.m. to 1:30 p.m., EST. For agenda details, see SUPPLEMENTARY INFORMATION.

ADDRESSES: The meeting will take place at the Gulf Council office. Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Monday, December 16, 2024; 8 a.m.-1:30 p.m., EST (7 a.m.-12:30 p.m. CST)

Meeting will begin with Introduction of Members, Election of Chair and Vice Chair, Adoption of Agenda and Approval of Summary from March 19-20, 2024 Meeting, and Scope of Work.

The AP will review and discuss Council Actions in Response to Motions from the March 2024 Shrimp AP Meeting, discuss the Draft Shrimp Framework Action: Modification of the Vessel Position Data Collection Program for the Gulf of Mexico Shrimp Fishery, receive a presentation on Survey Design and Estimated Costs for Position-recording Devices in the Gulf of Mexico Shrimp Fleet, and receive an update on Shrimp Futures Program.

Lastly, the AP will receive any public testimony and discuss other business items.

Meeting Adjourns—

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

The meeting is physically accessible to people with disabilities. Requests for

sign language interpretation or other auxiliary aid or accommodations should be directed to Kathy Pereira, kathy.pereira@gulfcouncil.org, at least 5 days prior to the meeting date.

Authority: 16 U.S.C. 1801 et seq.

Dated: November 21, 2024.
Rey Israel Marquez,
Acting Deputy Director, Office of Sustainable Fisheries, National Marine Fisheries Service.

[FR Doc. 2024-27770 Filed 11-26-24; 8:45 am]

BILLING CODE 3510-22-P